FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4502F.

Name: Cindy Ellen Strong dba Strong Forwarding.

Address: 8311 Pat Blvd., Tampa, FL 33615.

Date Revoked: August 14, 2002.

Reason: Failed to maintain a valid bond.

License Number: 4168F.

Name: Continental Express International, Inc.

Address : 7506 S.W. 26th Court, Davie, FL 33314.

Date Revoked: July 19, 2002.

Reason: Failed to maintain a valid bond.

License Number: 16779F.

Name: EAFF (USA) Inc.

Address: 8840 NW 102nd Street, Medley, FL 33178.

Date Revoked: August 1, 2002.

Reason: Failed to maintain a valid bond.

License Number: 17449N.

Name: Fasttrack Line, Inc.

Address: 201 Sevilla Avenue, Suite 306, Coral Gables, FL 33134.

Date Revoked: August 24, 2002.

Reason: Surrendered license voluntarily.

License Number: 3608NF.

Name: Fujiwara America Incorporated.

Address: 6840 Fort Dent Way, Suite 150, Seattle, WA 98188.

Date Revoked: August 15, 2002.

Reason : Failed to maintain valid bonds.

License Number : 1510F

Name: G.M. Miller & Co., Int'l.

Address: 573 Forbes Blvd., So. San Francisco, CA 94080.

Date Revoked: July 18, 2002.

Reason: Failed to maintain a valid bond.

License Number : 4488F

Name: Interamericas Consulting, Import, Export Inc.

Address: 22716 SW 65th Way, Boca Raton, FL 33428-5303.

Date Revoked: July 12, 2002.

Reason: Failed to maintain a valid bond.

License Number: 2638F.

Name: Intercorp Forwarders, Ltd.

Address: 3516 5th Street, #5G, Jackson Heights, NY 11372.

Date Revoked: August 15, 2002.

Reason: Failed to maintain a valid bond.

License Number: 3555F.

Name: Thomas Griffin International, Inc.

Address: 1411 N. Westshore Blvd., Suite 315, Tampa, FL 33607.

Date Revoked: July 28, 2002.

Reason: Failed to maintain a valid bond.

License Number: 4491F.

Name: VAI Freight Forwarding, Inc.

Address: 8807 NW 23rd Street, Miami, FL 33172.

Date Revoked: August 15, 2002.

Reason: Failed to maintain a valid bond.

Sandra L. Kusumoto,
Director, Bureau of Consumer Complaints and Licensing.

[FR Doc. 02-23723 Filed 9-17-02; 8:45 am]

BILLING CODE 6730-01-P